SECURITIES AND EXCHANGE COMMISSION

Sunshine Act Meeting; Additional Item

FEDERAL REGISTER CITATION OF PREVIOUS ANNOUNCEMENT: To be published.

PREVIOUSLY ANNOUNCED TIME AND DATE OF THE MEETING: Thursday, February 9, 2017.

CHANGES IN THE MEETING: The following matter will also be considered during the 2 p.m. Closed Meeting scheduled for Thursday, February 9, 2017: Exemption Relief Order.

CONTACT PERSON FOR MORE INFORMATION: For further information and to ascertain what, if any, matters have been added, deleted or postponed, please contact the Office of the Secretary at (202) 551-5400.

Dated: February 3, 2017.
Lynn M. Powalski,
Deputy Secretary.

[FR Doc. 2017-02636 Filed 2-6-17; 11:15 am]

BILLING CODE 8011-01-P